DEPARTMENT OF JUSTICE

Notice of Lodging of Proposed Consent Decree Under the Comprehensive Environmental Response, Compensation, and Liability Act

On April 14, 2016, the Department of Justice lodged a proposed Consent Decree with the United States District Court for the District of Colorado in the lawsuit entitled United States and State of Colorado v. CoCa Mines, Inc., Civil Action No. 1:16-cv-00847WJM.

The case concerns the Nelson Tunnel/Commodore Waste Rock Pile Superfund Site (“Site”) located near Creede, Colorado, and the potential liability of CoCa Mines, Inc. under Section 107(a) of CERCLA, 42 U.S.C. 9607(a), as a past owner or operator at the Site from 1973 to 1993. Under the settlement CoCa Mines, Inc. will pay $5.4 million to the U.S. Environmental Protection Agency (“EPA”) and $600,000 to the Colorado Department of Public Health and Environment (“CDPHE”) for response costs incurred and to be incurred at the Site. The settlement extends a covenant not to sue under Sections 106 and 107 of CERCLA, 42 U.S.C. 9606 and 9607, to the Settling Defendant, CoCa Mines, Inc., and to the Settling Defendant's Related Parties a term defined, subject to specific limitations, to include Hecla Limited and Creede Resources, Inc. The settlement further extends, subject to specific limitations, to Settling Defendant's successors and assigns, and to the officers, directors, and employees of Settling Defendant and Settling Defendant's Related Parties.

The publication of this notice opens a period for public comment on the Consent Decree. Comments should be addressed to the Assistant Attorney General, Environment and Natural Resources Division, and should refer to United States and State of Colorado v. CoCa Mines, Inc., D.J. Ref. No. 90-11-3-10841. All comments must be submitted no later than thirty (30) days after the publication date of this notice. Comments may be submitted either by email or by mail:

To submit comments: | Send them to:
By e-mail | pubcomment-ees.enrd@usdoj.gov.
By mail | Assistant Attorney General, U.S. DOJ—ENRD, P.O. Box 7611, Washington, D.C. 20044-7611.

During the public comment period, the Consent Decree may be examined and downloaded at this Justice Department Web site: http://www.justice.gov/enrd/consent-decrees. We will provide a paper copy of the Consent Decree upon written request and payment of reproduction costs. Please mail your request and payment to:

Consent Decree Library, U.S. DOJ—ENRD, P.O. Box 7611, Washington, DC 20044-7611.

Please enclose a check or money order for $6.75 (25 cents per page reproduction cost) payable to the United States Treasury for a copy of the Consent Decree.

Jeffrey K. Sands,
Assistant Section Chief, Environmental Enforcement Section, Environment and Natural Resources Division.

[FR Doc. 2016-09564 Filed 4-25-16; 8:45 am]

BILLING CODE 4410-15-P